DEPARTMENT OF STATE

[Public Notice: 12593]

60-Day Notice of Proposed Information Collection: Overseas Schools Grant Status Report

ACTION: Notice of request for public comment.

SUMMARY: The Department of State is seeking Office of Management and Budget (OMB) approval for the collection of information via the MyGrants application from schools receiving assistance from the Department of State. In accordance with the Paperwork Reduction Act of 1995, we are requesting comments on this collection from all interested individuals and organizations. The purpose of this notice is to allow 60 days for public comment preceding submission of the collection to OMB.

DATES: The Department will accept comments from the public up to February 10, 2025.

You may submit comments by any of the following methods:

• Web: Persons with access to the internet may comment on this notice by going to www.Regulations.gov. You can search for the document by entering “Docket Number: OMB-2024-0045” in the Search field. Then click the “Comment Now” button and complete the comment form.

• Email: UlfersME@state.gov with “Comments on OMB-1405-0036” as the subject header of your email.

• Regular Mail: Send written comments to: Attn: Comments on OMB-1405-0036, Office of Overseas Schools, U.S. Department of State, 2201 C Street NW, Washington, DC 20520.

You must include the DS form number (if applicable), information collection title, and the OMB control number in any correspondence.

FOR FURTHER INFORMATION CONTACT: Direct requests for additional information regarding the collection listed in this notice, including requests for copies of the proposed collection instrument and supporting documents, to Mark Ulfers, Department of State, Office of Overseas Schools, A/OPR/OS, Room H328, SA-1, Washington, DC 20522-0132, who may be reached on 202-261-8200 or at UlfersME@state.gov.

SUPPLEMENTARY INFORMATION:

• Title of Information Collection: Overseas Schools Grant Applications.

• OMB Control Number: 1405-0036.

• Type of Request: Extension of a currently approved collection.

• Originating Office: Bureau of Administration, A/OPR/OS.

• Form Number: None; MyGrants application.

• Respondents: Overseas Schools applying for a grant from the Department of State.

• Estimated Number of Respondents: 193.

• Estimated Number of Responses: 193.

• Average Time per Response: 90 minutes.

• Total Estimated Burden Time: 4.8 hours.

• Frequency: Annually.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The mission of Office of Overseas Schools of the Department of State (A/OPR/OS) is responsible for determining that adequate educational opportunities exist at the elementary and secondary level for dependents of American citizens carrying out the programs of the U.S. Government abroad, and for assisting American-sponsored overseas schools to embody the best educational practices employed in the United States, and promote mutual understanding among peoples through education.

The information submitted by assisted schools through the MyGrants application, enables the technical and professional staff of A/OPR/OS to monitor obligations, expenditures and reimbursements of the grant funds and ensure the grantee is in compliance with the terms of the grant. In addition, A/OPR/OS plans to use information collected via the MyGrants application to ensure accuracy of the information published on its website, namely the Fact Sheets and Special Needs Profiles.

Availability of adequate educational opportunities for dependents of Government personnel is essential to the task of recruiting, placing, and retaining Foreign Service personnel at overseas posts.

Methodology

Information is collected via electronic and paper submission.

Martin Kelly,
Principal Deputy Assistant Secretary, Administration, Department of State.

[FR Doc. 2024-29233 Filed 12-11-24; 8:45 am]

BILLING CODE 4710-24-P